SECURITIES AND EXCHANGE COMMISSION

[Rel. No. IC-25147A; 811-03050]

American General Life Insurance Company of New York Separate Account E; Notice of Deregistration

Correction

In Release No. IC-25147, issued on August 31, 2001 (FR Document 01-22508 beginning on page 46850 for Friday, September 7, 2001), the nineteenth entry ¹ contained an inadvertent error. The entry incorrectly identified the applicant as A.G. Series Trust and the application amendment date as July 19, 2001. The entry should refer to the applicant by its correct name which is American General Life Insurance Company of New York Separate Account E, and the correct application amendment date of July 18, 2001.

¹ See 66 FR 46852.

For the Commission, by the Division of Investment Management, pursuant to delegated authority.
Margaret H. McFarland,
Deputy Secretary.

[FR Doc. 01-23435 Filed 9-19-01; 8:45 am]

BILLING CODE 8010-01-M